COMMITTEE FOR PURCHASE FROM PEOPLE WHO ARE BLIND OR SEVERELY DISABLED

Procurement List; Proposed Additions and Deletions

AGENCY: Committee for Purchase From People Who Are Blind or Severely Disabled.

ACTION: Proposed addition to and deletions from the Procurement List.

SUMMARY: The Committee is proposing to add a service to the Procurement List that will be furnished by nonprofit agencies employing persons who are blind or have other severe disabilities, and deletes products and services previously furnished by such agencies.

DATES: Comments must be received on or before October 22, 2017.

ADDRESSES: Committee for Purchase From People Who Are Blind or Severely Disabled, 1401 S. Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Service

Service Type/Location: Custodial Service, USDA Forest Service, Bridger-Teton National Forest Supervisor's Office, Jackson Ranger District & Teton Interagency Helibase, 340 N. Cache Street and 1260 E. Airport Road, Jackson, WY.

NPA: Development Workshop, Inc., Idaho Falls, ID

Contracting Activity: Forest Service, USDA Forest Service

Deletions

The following products and service are proposed for deletion from the Procurement List:

Products

NSN/Product Name: 5340-00-477-3700—Strap, Webbing

Mandatory Source of Supply: Huntsville Rehabilitation Foundation, Huntsville, AL

Contracting Activity: DLA Troop Support, Philadelphia, PA

NSN/Product Name: 5340-00-992-9254—Cover, Protective

Mandatory Source of Supply: Huntsville Rehabilitation Foundation, Huntsville, AL

Contracting Activity: DLA Troop Support, Philadelphia, PA

NSNs/Product Names: 7520-00-285-3143—Wood Filing Box—3″ x 5″ Cards, 3″ Capacity, Light Oak

7520-00-285-3144—Wood Filing Box—3″ x 5″ Cards, 3″ Capacity, Walnut

7520-00-285-3145—Wood Filing Box—3″ x 5″ Cards, 9″ Capacity, Walnut

7520-00-285-3146—Wood Filing Box—5″ x 8″ Cards, 9″ Capacity, Walnut

7520-00-285-3147—Wood Filing Box—3″ x 5″ Cards, 9″ Capacity, Light Oak

7520-00-285-3148—Wood Filing Box—5″ x 8″ Cards, 9″ Capacity, Light Oak

Mandatory Source of Supply: Napa Valley PSI, Inc., Napa, CA

Contracting Activity: GSA/FSS OFC SUP CTR—Paper Products, New York, NY

NSN/Product Name: 7045-01-470-3011—Data Cartridge, Travan

Mandatory Source of Supply: North Central Sight Services, Inc., Williamsport, PA

Contracting Activity: DLA Troop Support, Philadelphia, PA

NSNs/Product Names: 6532-00-149-0327—Trousers, Operating, Surgical

6532-00-149-0328—Trousers, Operating, Surgical

6532-00-149-0329—Trousers, Operating, Surgical

6532-00-149-0330—Trousers, Operating, Surgical

Mandatory Source of Supply: Human Technologies Corporation, Utica, NY

Contracting Activity: DLA Troop Support, Philadelphia, PA

Service

Service Type/Location: GSA, Southwest Supply Center: 819 Taylor Street, Fort Worth, TX

Mandatory Source of Supply: Expanco, Inc., Fort Worth, TX

Contracting Activity: Federal Acquisition Service, GSA/FSS Greater Southwest Acquisition CTR (7FCO)

Patricia Briscoe,
Deputy Director, Pricing and Information Management.

[FR Doc. 2017-20211 Filed 9-21-17; 8:45 am]

BILLING CODE 6353-01-P